ENVIRONMENTAL PROTECTION AGENCY

[ER-FRL-6251-6]

Environmental Impact Statements; Notice of Availability

Responsible Agency: Office of Federal Activities, General Information (202) 564-7167 or www.epa.gov/oeca/ofa. Weekly receipt of Environmental Impact Statements. Filed February 21, 2000 through February 25, 2000. Pursuant to 40 CFR 1506.9.

EIS No. 000052, DRAFT EIS, AFS, MT, Spar and Lake Subunits Forest Health Project, improvements, Kootenai National Forest, Three Rivers Ranger District, Lincoln County, MT. Due: April 17, 2000. Contact: Michael L. Balboni (406) 295-4693.

EIS No. 000053, FINAL EIS, AFS, ID, Coeur d'Alene River Ranger District Noxious Weed Control Project, treating 76 specific sites across district, Kootenai and Shoshone Counties, ID. Due: April 03, 2000. Contact: Val Goodnow (208) 664-2318.

EIS No. 000054, DRAFT EIS, AFS, CA, Pendola Fire Restoration Project, Implementation, Tahoe National Forest, Downieville Ranger District, Yuba County, CA. Due: April 17, 2000. Contact: Jeanne M. Masquelier (530) 288-3231.

EIS No. 000055, FINAL EIS, BLM, NV, South Pipeline Mine Project, Proposal to Extend Gold Mining Operations, Implementation, Lander County, NV. Due: April 03, 2000. Contact: Gary Foulkes (775) 635-4060.

EIS No. 000056, FINAL EIS, NPS, TX, Padre Island National Seashore Oil and Gas Management Plan, Implementation, Kleberg, Kenedy and Willacy Counties, TX. Due: April 03, 2000. Contact: Linda Dansby (505) 988-6095.

EIS No. 000057, REGULATORY DRAFT, AFS, OR, ID, OR, ID, Hells Canyon National Recreation Area (HCNRA), Comprehensive Management Plan, Revised and Updated Information on Five Alternatives, Implementation, Wallowa-Whitman National Forest, Nez Perce and Payette National Forests, Bake and Wallowa Counties, or and Nez Perce and Adam Counties, ID. Due: June 20, 2000. Contact: Elaine Kohrman (541) 523-1331.

EIS No. 000058, DRAFT EIS, FRC, CA, UT, AZ, NM, Southern Trails Pipeline Project (CP99-163-000), Conversion of an Existing Crude Oil Pipeline (known as the ARCO Four Corners Pipeline Line 90 System), Construction and Operation, CA, AZ, UT and NM. Due: April 17, 2000. Contact: Paul McKee (202) 208-1088.

EIS No. 000059, DRAFT EIS, DOE, TN, Treating Transuranic (TRU)/Alpha Low-Level Waste at the Oak Ridge National Laboratory, Construct, Operate, and Decontaminate/Decommission of Waste Treatment Facility, Oak Ridge, TN. Due: April 17, 2000. Contact: Clayton Gist (865) 241-3498.

EIS No. 000060, FINAL EIS, USN, CA, Hunters Point (Former) Naval Shipyard Disposal and Reuse, Implementation, City of San Francisco, San Francisco County, CA. Due: April 03, 2000. Contact: Melanie Ault (619) 532-0954.

EIS No. 000061, DRAFT SUPPLEMENT, DOD, AK, ND, AS, National Missile Defense Deployment (NMD) System, Upgraded Early Warning Radar Supplement (UEWR), To Address Interior Replacement of Electronic Hardware and Computer Software, Affected Areas Clear Air Force Station (AFS), Denali Borough, AK; Beale Air Force Base (AFB), Yuba County, CA; and Cape Cod AFS, Barnstable County, MA. Due: April 17, 2000. Contact: David Hasley (256) 955-4170.

EIS No. 000062, FINAL EIS, OSM, TN, Fall Creek Falls Petition Evaluation Document, Implementation, Designate the Land as Unsuitable for Surface Coal Mining Operation, Van Buren and Bledsoe Counties, TN. Due: April 03, 2000. Contact: Sam K. Bae (202) 208-2633.

Amended Notices

EIS No. 000034, DRAFT EIS, FRA, Use of Locomotive Horns at Highway-Rail Grade Crossing, Proposal Rule, Nationwide. Due: May 26, 2000. Contact: Mark H. Tessler (202) 493-6038. Published—FR-02-18-00—This EIS was inadvertently published in the 02-18-2000 FR. The correct Notice of Availability was published in the date comments are due back to the preparing agency is May 26, 2000.

Dated: February 29, 2000.
B. Katherine Biggs,
Associate Director, Office of Federal Activities.

[FR Doc. 00-5199 Filed 3-2-00; 8:45 am]

BILLING CODE 6560-50-U